FEDERAL RETIREMENT THRIFT INVESTMENT BOARD

Sunshine Act Notice

Time and Date: 9 a.m. (e.d.t.), April 18, 2005.

Place: 4th Floor Conference Room, 1250 H Street, NW., Washington, DC.

Status: Parts will be open to the public and parts closed to the public.

Matters to be Considered:

Parts Open to the Public

1. Approval of the minutes of the March 21, 2005, Board member meeting.

2. Thrift Savings Plan activity report by the Executive Director.

3. Quarterly Investment Policy report.

Parts Closed to the Public

4. Procurement.

5. Personnel.

Contact Person for More Information: Thomas J. Trabucco, Director, Office of External Affairs, (202) 942-1640.

Dated: April 5, 2005.
Elizabeth S. Woodruff,
Secretary to the Board, Federal Retirement Thrift Investment Board.

[FR Doc. 05-7128 Filed 4-5-05; 3:43 pm]

BILLING CODE 6760-01-P